DEPARTMENT OF DEFENSE

Office of the Secretary

Meeting of the Defense Acquisition University Board of Visitors; Cancellation

AGENCY: Defense Acquisition University (DAU), Department of Defense (DoD).

ACTION: Notice; cancellation.

SUMMARY: On September 22, 2011 (76 FR 58786), the Defense Acquisition University Board of Visitors announced a meeting to be held Thursday, October 13, 2011, from 8:30 a.m. to 11:45 a.m. at the Hirsch Center, Building 226, Defense Acquisition University, 9820 Belvoir Road in Fort Belvoir, Virginia.

Pursuant to the Federal Advisory Committee Act of 1972 (5 U.S.C., Appendix, as amended), the Government in the Sunshine Act of 1976 (5 U.S.C. 552b, as amended), and 41 CFR 102-3.150, the Department of Defense announces that this meeting is cancelled due to scheduling conflicts.

FOR FURTHER INFORMATION CONTACT: Christen Goulding, Protocol Director, DAU. Phone: 703-805-5134. Fax: 703-805-5940. E-mail: christen.goulding@dau.mil.

Dated: October 3, 2011.
Aaron Siegel,
Alternate OSD Federal Register Liaison Officer, Department of Defense.

[FR Doc. 2011-26025 Filed 10-6-11; 8:45 am]

BILLING CODE 5001-06-P